DEPARTMENT OF COMMERCE

Foreign-Trade Zones Board

[Docket 38-2009]

Foreign-Trade Zone 196-5; Fort Worth, Texas

Application for Processing Authority

ATC Logistics & Electronics

(Personal Navigation Devices)

Fort Worth, Texas

An application has been submitted to the Foreign-Trade Zones Board (the Board) by ATC Logistics & Electronics (ATCLE), an operator of FTZ 196, requesting processing authority within FTZ 196 in Fort Worth, Texas. The application was submitted pursuant to the provisions of the Foreign-Trade Zones Act, as amended (19 U.S.C. 81a-81u), and the regulations of the Board (15 CFR part 400). It was formally filed on September 16, 2009.

The ATCLE facility (817 employees, 6 million unit capacity) is located within Site 2 of FTZ 196. The facility is used for the kitting of personal navigation devices. Components and materials sourced from abroad (representing 97% of the value of the finished product) include: LCD tape; plastic self-adhesive labels; dummy SIM cards; labels; LCD film; screw covers; plastic brackets and washers; USB connector housings; foam strips; rubber O-rings, gaskets, buffers and serial port plug covers; foam fronts; leather bags and holsters; screws and nuts; locking washers; anti-ESD foil; LCD copper; antennas and parts; speaker labels; steel brackets; label printers; disk drives; stylus pens; USB travel chargers with captive cables; power adapters; batteries; microphones; speakers; recorded media; GPS units; remote controls; FM transmitters; keyboards; SIM cards; plastics kits; SD card doors; shield cases; car kits; LCD modules; capacitors; keypads; rail clamps; switches; cables; adaptors; integrated circuits; security tags; adhesive mounting discs; bean bag mounts; LCD optis unified (flat panel display); LCD multi-source (flat panel display 5; high definition); battery analyzers; and battery adapters (duty rate ranges from duty-free to 6.5%).

FTZ procedures could exempt ATCLE from customs duty payments on the foreign components used in export production. The company anticipates that some 10% percent of the plant's shipments will be exported. On its domestic sales, ATCLE would be able to choose the duty rates during customs entry procedures that apply to the assembled personal navigation device kits (duty-free) for the foreign inputs noted above. FTZ designation would further allow ATCLE to realize logistical benefits through the use of weekly customs entry procedures. Customs duties also could possibly be deferred or reduced on foreign status production equipment. The request indicates that the savings from FTZ procedures would help improve the facility's international competitiveness.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is November 27, 2009. Rebuttal comments in response to material submitted during the foregoing period may be submitted during the subsequent 15-day period to December 14, 2009.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz.

For further information, contact Elizabeth Whiteman at Elizabeth_Whiteman@ita.doc.gov or (202) 482-0473.

Dated: September 17, 2009.
Andrew McGilvray,
Executive Secretary.

[FR Doc. E9-23369 Filed 9-25-04; 8:45 am]

BILLING CODE 3510-DS-S